DEPARTMENT OF DEFENSE

Department of the Air Force

Privacy Act of 1974; System of Records

AGENCY: Department of the Air Force, DoD.

ACTION: Notice to Amend Systems of Records.

SUMMARY: The Department of the Air Force is amending six systems of records notices in its existing inventory of record systems subject to the Privacy Act of 1974, (5 U.S.C. 552a), as amended.

The amendments are required to alert the users of these systems of records of the additional requirements of the Health Insurance Portability and Accountability Act (HIPAA) of 1996, as implemented by DoD 6025.18-R, DoD Health Information Privacy Regulation. Language being added under the ‘Routine Use’ category is as follows:

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

DATES: ‘This proposed action will be effective without further notice on July 16, 2003 unless comments are received which result in a contrary determination.

ADDRESSES: Send comments to the Air Force Privacy Act Manager, Office of the Chief Information Officer, AF-CIO/P, 1155 Air Force Pentagon, Washington, DC 20330-1155.

FOR FURTHER INFORMATION CONTACT: Mrs. Anne Rollins at (703) 601-4043.

SUPPLEMENTARY INFORMATION: The Department of the Air Force systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: June 5, 2003.
Patricia Toppings,
Alternate OSD Federal Register Liaison Officer, Department of Defense.

F044 AF SG J

System name:

Air Force Blood Program (June 11, 1997, 62 FR 31793).

Changes

* * * * *

Routine uses of records maintained in the system, including categories of users and the purposes of such uses:

Add to end of entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.'

* * * * *

F044 AF SG J

System name:

Air Force Blood Program.

System location:

Air Force hospitals, medical centers and clinics. Official mailing addresses are published as an appendix to the Air Force’s compilation of systems of records notices.

Categories of individuals covered by the system:

Active duty and retired military personnel, dependents of military personnel, government employees.

Categories of records in the system:

Emergency blood donor list, donor record cards, and a roster/list by blood type and Rh factor.

Authority for maintenance of the system:

42 U.S.C. 262, Regulation of biological products, as implemented by Air Force Instruction 44-105, The Air Force Blood Program.

Purpose(s):

Used by Air Force medical centers, hospitals and clinics to control, coordinate and process request for blood donors.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air Force's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Maintained in file folders and in card files.

Retrievability:

Retrieved by name. Rosters/lists are filed chronologically.

Safeguards:

Records are accessed by person(s) responsible for servicing the record system in performance of their official duties, and by commanders of medical centers, hospitals and clinics. Records are stored in security file containers/cabinets.

Retention and disposal:

Retained in office files until superseded, obsolete, no longer needed for reference, or on inactivation, then destroyed by tearing into pieces, shredding, pulping, macerating, or burning. Donor record cards are retained in office files for seven years.

System manager(s) and address:

The Surgeon General, Headquarters United States Air Force. Official mailing addresses are published as an appendix to the Air Force's compilation of systems of records notices.

Notification procedure:

Individuals seeking to determine whether information about themselves is contained in this system should address written inquiries to or visit the Surgeon General, Headquarters United States Air Force. Official mailing addresses are published as an appendix to the Air Force's compilation of systems of records notices.

Record access procedures:

Individuals seeking access to information about themselves contained in this system should address written inquiries to or visit the Surgeon General, Headquarters United States Air Force. Official mailing addresses are published as an appendix to the Air Force's compilation of systems of records notices.

Contesting record procedures:

The Air Force rules for accessing records, and for contesting contents and appealing initial agency determinations are published in Air Force Instruction 37-132; 32 CFR part 806b; or may be obtained from the system manager.

Record source categories:

Documents prepared by the Air Force.

Exemptions claimed for the system:

None.

F044 AF SG L

System name:

Medical Treatment Facility Tumor Registry (June 11, 1997, 62 FR 31793).

Changes

* * * * *

Routine uses of records maintained in the system, including categories of users and the purposes of such uses:

Add to end of entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

F044 AF SG L

System name:

Medical Treatment Facility Tumor Registry.

System location:

Air Force medical centers, hospitals, and clinics.

Categories of individuals covered by the system:

All individuals who were diagnosed as having or were treated for cancer in an armed forces medical treatment facility.

Categories of records in the system:

Files contain summaries of treatment provided cancer patients, to include tumor board evaluations, comprehensive chronological summaries of care rendered, a locator system, suspense files for required follow-up treatment and/or evaluation.

Authority for maintenance of the system:

10 U.S.C. Chapter 55, Medical and Dental Care.

Purpose(s):

Used by the military departments for clinical and statistical analysis of designated medical and dental cases, their treatment and results. The files serve as the repository of clinical information relating to individuals evaluated and/or treated in Air Force medical facilities. It is used to conduct statistical analysis and to provide clinical information to other federal medical services, scientific institutions and qualified members of the medical and dental professions (information identifiable by name is released only with permission of the patient). Information is used by the medical facilities to promote education programs and to develop statistics designed to be used as a basis for developing improved diagnostic and therapeutic standards. Used by the individual physician or scientist to develop and write professional papers, and is used by hospital tumor registries to update their case records as to status and quality of survival of individual patients.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be provided to other hospital tumor registries, physicians, scientific institutions.

The DoD “Blanket Routine Uses” published at the beginning of the Air Force’s compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Maintained in file folders, card files, on computer and computer paper printouts, roll microfilm or microfiche.

Retrievability:

Retrieved by name or Social Security Number.

Safeguards:

Records are accessed by custodian of record system and by person(s) responsible for servicing the record system in performance of their official duties. Records are stored in locked cabinets or rooms and controlled by computer system software.

Retention and disposal:

Records located at medical facilities are retained in the office files until inactivation of the tumor board or the facility, then forwarded to facility assuming patient responsibility.

System manager(s) and address:

Commanders of armed forces medical facilities. Official mailing addresses are published as an appendix to the Air Force's compilation of systems of records notices.

Notification procedure:

Individuals seeking to determine whether information about themselves is contained in this system should address written inquiries to or visit the Commanders of armed forces medical facilities. Official mailing addresses are published as an appendix to the Air Force's compilation of systems of records notices.

Requests must include full name, Social Security Number of sponsor, accession number.

Record access procedures:

Individuals seeking access to information about themselves contained in this system should address written inquiries to or visit the Commanders of armed forces medical facilities. Official mailing addresses are published as an appendix to the Air Force's compilation of systems of records notices.

Contesting record procedures:

The Air Force rules for accessing records, and for contesting contents and appealing initial agency determinations are published in Air Force Instruction 37-132; 32 CFR part 806b; or may be obtained from the system manager.

Record source categories:

Information obtained from medical institutions and from source documents such as reports.

Exemptions claimed for the system:

None.

F044 AF SG R

System name:

Reporting of Medical Conditions of Public Health and Military Significance (March 23, 2001, 66 FR 16188).

Changes

* * * * *

Routine uses of records maintained in the system, including categories of users and the purposes of such uses:

Add to end of entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

F044 AF SG R

System name:

Reporting of Medical Conditions of Public Health and Military Significance.

System location:

Epidemiology Services Branch, Epidemiologic Research Division, Armstrong Laboratory, 2601 West Gate Road, Suite 114, Brooks City-Base, TX 78235-5241, medical centers, hospitals and clinics, medical aid stations, Air National Guard activities, and Air Force Reserve units. Official mailing addresses are published as an appendix to the Air Force's compilation of systems of records notices.

Categories of individuals covered by the system:

Active duty Air Force members and their dependents, civilian Air Force employees, retired Air Force members and their dependents, Air Force Reserve and Air National Guard personnel and foreign national Air Force employees.

Categories of records in the system:

Name, Social Security Number, home address, home phone, date of birth, and records relating to communicable diseases, occupational illnesses, animal bites.

Authority for maintenance of the system:

10 U.S.C. 55, Medical and Dental Care; 10 U.S.C. 8013, Secretary of the Air Force; 29 CFR part 1960, Occupational Illness/Injury Reporting Guidelines for Federal Agencies; Air Force Instruction 48-105, Surveillance, Prevention, and Control of Diseases and Conditions of Public Health or Military Significance; and E.O. 9397 (SSN).

Purpose(s):

Records from this system of records will be used for ongoing public health surveillance, which is the systematic collection, analysis, and interpretation of outcome-specific data for use in the planning, implementation, and evaluation of public health practice within the Air Force.

Primary users include appropriate Air Force activity/installation preventive medicine and public health personnel and their major command and Air Force counterparts. Records are used and reviewed by health care personnel in the performance of their duties.

Health care personnel include military and civilian personnel assigned to the Air Force facility where the records are maintained. Students participating in a USAF training program may also use and review records as part of their training program.

Routine uses of records maintained in the system, including categories of users and the purposes of such uses:

In addition to those disclosures generally permitted under 5 U.S.C. 552a(b) of the Privacy Act, these records, or information contained therein, may specifically be disclosed outside the DoD as a routine use pursuant to 5 U.S.C. 552a(b)(3) as follows:

To the officials and employees of the National Research Council and the Department of Veterans Affairs in cooperative studies of the natural history of disease and epidemiology. Each study in which the records of members and former members of the Air Force are used must be approved by the Surgeon General of the Air Force.

To officials and employees of local and state governments in the performance of their official duties pursuant to the laws and regulations governing local control of communicable diseases, preventive medicine and safety programs, and other public health and welfare programs.

The DoD ‘Blanket Routine Uses’ published at the beginning of the Air Force's compilation of record system notices apply to this system, except as stipulated in ‘Note’ below.

Note: Records of identity, diagnosis, prognosis or treatment of any client/patient, irrespective of whether or when he/she ceases to be a client/patient, maintained in connection with the performance of any alcohol/drug abuse treatment function conducted, requested, or directly or indirectly assisted by any department or agency of the United States, shall, except as provided herein, be confidential and be disclosed only for the purposes and under the circumstances expressly authorized in 42 U.S.C. 290dd-2. This statute takes precedence over the Privacy Act of 1974 in regard to accessibility of such records except to the individual to whom the record pertains. The DoD ‘Blanket Routine Uses’ do not apply to these types of records.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Maintained in machine readable form.

Retrievability:

Records are retrieved by name, Social Security Number, reportable event, location, or any combination of these.

Safeguards:

Records are accessed by custodians of the record system and by person(s) responsible for servicing the record system in performance of their official duties and who are properly screened. Except when under direct physical control by authorized individuals, records will be electronically stored in computer storage devices protected by computer system software. Computer terminals are located in supervised areas with terminal access controlled by password or other user code systems.

Retention and disposal:

Local retention may vary, but will be no less than 5 years after the fiscal year to which the records relate. After that time, records may be destroyed by erasing, deleting, or overwriting.

System manager(s) and address:

Chief, Epidemiology Services Branch, Epidemiologic Research Division, Armstrong Laboratory (AL/AOES), 2601 West Gate Road, Suite 114, Brooks City-Base, TX 78235-5241, or comparable official of the Public Health Office serving the Air Force activity/installation. Official mailing addresses are published as an appendix to the Air Force's compilation of systems of records notices.

Notification procedure:

Individuals seeking to determine whether this system of records contains information on themselves should address written inquiries to Chief, Epidemiology Services Branch, Epidemiologic Research Division, Armstrong Laboratory (AL/AOES), 2601 West Gate Road, Suite 114, Brooks City-Base, TX 78235-5241, or comparable official of the Public Health Office serving the Air Force activity/installation. Official mailing addresses are published as an appendix to the Air Force's compilation of systems of records notices.

Written requests should contain the full name and signature of the requester.

Requests in person must be made during normal office duty hours Monday through Friday, excluding national and/or local holidays.

Record access procedures:

Individuals seeking to access records about themselves contained in this system should address written requests to the Chief, Epidemiology Services Branch, Epidemiologic Research Division, Armstrong Laboratory (AL/AOES), 2601 West Gate Road, Suite 114, Brooks City-Base, TX 78235-5241, or comparable official of the Public Health Office serving the Air Force activity/installation. Official mailing addresses are published as an appendix to the Air Force's compilation of systems of records notices.

Written requests should contain the full name and signature of the requester.

Requests in person must be made during normal office duty hours Monday through Friday, excluding national and/or local holidays.

Contesting record procedures:

The Air Force rules for accessing records, and for contesting and appealing initial agency determinations are published in Air Force Instruction 37-132; 32 CFR part 806b; or may be obtained from the system manager.

Record source categories:

Records in this system are obtained from DOD and Air Force employees involved in the surveillance, prevention, control, and reporting of diseases and conditions of public health or military significance.

Database is compiled using information from personnel, medical, and casualty records, investigative reports, and environmental sampling data.

Exemptions claimed for the system:

None.

F044 AF SG S

System name:

Alcohol and Drug Abuse Prevention and Treatment Program (December 23, 1999, 64 FR 72072).

Changes

* * * * *

Routine uses of records maintained in the system, including categories of users and the purposes of such uses:

Add to end of entry ‘NOTE: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

F044 AF SG S

System name:

Alcohol and Drug Abuse Prevention and Treatment Program.

System location:

At servicing Air Force installation Alcohol and Drug Abuse Prevention and Treatment Program (ADAPT) office. Official mailing addresses are published as an appendix to the Air Force’s compilation of systems of records notices.

Categories of individuals covered by the system:

Air Force active duty military personnel and dependents, Air Force civilian employees, and Air Force Reserve personnel, who are enrolled in the Alcohol and Drug Abuse Prevention and Treatment Program.

Categories of records in the system:

As a minimum, the file contains referral information, evaluative materials, diagnostic assessment, treatment plan, counseling case notes, treatment summary, and automated data base, documenting entry and participation in the Air Force ADAPT Program, to include: date and means of identification and substance of abuse.

Authority for maintenance of the system:

42 U.S.C. 290dd-2, Confidentiality of Patient Records; Air Force Instruction 44-121, Alcohol and Drug Abuse Prevention and Treatment (ADAPT) Program; Air Force Instruction 36-810, Substance Abuse Prevention and Control; and E.O. 9397 (SSN).

Purpose(s):

The file is used to process members in the ADAPT Program; to develop a treatment plan; to assist medical providers in decisions for program disposition; to document progress for individuals enrolled in the ADAPT program; and to prepare recurring reports.

Disclosure within the Air Force is limited to those individuals who need the records in connection with programs relating to abuse treatment, rehabilitation, research, health, and assignment to duty. Only persons authorized by 42 U.S.C. 290dd-2 may review, handle or have access to the file.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows: To officials and employees of the Department of Veterans Affairs in the performance of their official duties relating to the adjudication of veterans' claims and in providing medical care to Air Force members.

Note: Record of the identity, diagnosis, prognosis, or treatment of any client/patient, irrespective of whether or when he ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2. The results of a drug test of civilian employees may be disclosed only as expressly authorized under 5 U.S.C. 7301. These statutes take precedence over the Privacy Act of 1974, in regard to accessibility of such records except to the individual to whom the record pertains. The DoD “Blanket Routine Uses” do not apply to these types records.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Maintained in file folders and computer and on computer output products.

Retrievability:

Retrieved by name, by Social Security Number, by other identification number or system identifier.

Safeguards:

Records are accessed by custodian of the record system and by person(s) responsible for servicing the record system in performance of their official duties and who are properly screened and cleared for need-to-know. Records are stored and secured in lockable receptacles and are controlled by personnel screening. Those in computer storage devices are protected by computer system software.

Retention and disposal:

Destroy 5 years after the end of the calendar year the case is closed or when a minor child reaches 23 years old.

System manager(s) and address:

Air Force Alcohol and Drug Abuse Prevention and Treatment (ADAPT) Program Manager, Air Force Medical Operations Agency, (AFMOA/SGOC), 5203 Leesburg Pike, Suite 702, Falls Church VA 22041-3410; and ADAPT Program Mangers in the office of the command surgeon at major command headquarters; and ADAPT Program Managers at Air Force installations. Official mailing addresses are published as appendix to the Air Force's compilation of systems of records notices.

Notification procedure:

Individuals seeking to determine whether this system of records contains information on themselves should address inquires to the ADAPT Program Manager at the servicing Air Force installation. Official mailing addresses are published as an appendix to the Air Force's compilation of systems of records notices.

Requests to determine existence of a file should include full name, grade, and unit of assignment. Personal visit proof of identify requires full name and possession of Department of Defense Armed Forces Identification Card; or driver's license and personal recognition of ADAPT staff member.

Record access procedures:

Individuals seeking access to information about themselves contained in this system should address requests to the ADAPT Program Manager servicing AF installation. Official mailing addresses are published as an appendix to the Air Force's compilation of systems of records notices.

Contesting record procedures:

The Air Force rules for accessing records, and for contesting contents and appealing initial agency determinations are published in Air Force Instruction 37'132; 32 CFR part 806b; or may be obtained from the system manager.

Record source categories:

Information obtained from medical institutions, personnel records, individual.

Exemptions claimed for the system:

None.

F044 AF SG T

System name:

Suicide Event Surveillance System (SESS) (April 13, 2001, 66 FR 19145).

Changes

* * * * *

Routine uses of records maintained in the system, including categories of users and the purposes of such uses:

Add to end of entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

F044 AF SG T

System name:

Suicide Event Surveillance System (SESS).

System location:

Defense Enterprise Computing Center, Defense Information Systems Agency Detachment San Antonio, Building 200, 450 Duncan Drive, San Antonio, TX 78241-5940, on behalf of the Air Force Medical Support Agency (AFMSA/SGMID), 2510 Kennedy Circle, Suite 208, Brooks City-Base, TX 78235-5123.

Categories of individuals covered by the system:

Air Force active duty, retired, reserve and guard personnel; Air Force civilians; dependents; and any DoD military or civilian personnel that are treated at an Air Force medical treatment facility.

Categories of records in the system:

Type of suicide event (completed and nonfatal suicide events), event details, psychological, social, behavioral, relationship, economic and other information, including name, Social Security Number, date of birth, gender, race/ethnic group, marital status, rank, military service, military status, job title, duty Air Force specialty code, permanent duty station, the major command of the permanent duty station, temporary duty station (if applicable), use of military helping services.

Authority for maintenance of the system:

10 U.S.C. 55, Medical and Dental Care; 10 U.S.C. 8013, Secretary of the Air Force; 29 CFR part 1960, Occupational Illness/Injury Reporting Guidelines for Federal Agencies; Air Force Instruction 48-105, Surveillance, Prevention, and Control of Diseases and Conditions of Public Health or Military Significance; and E.O. 9397 (SSN).

Purpose(s):

Records from this data system will be used for direct reporting of suicide events and ongoing public health surveillance, which is the systematic collection, analysis, and interpretation of outcome-specific data for use in the planning, implementation, evaluation and prevention within the Air Force. Primary users include authorized Air Force activity/installation mental health personnel, their major command and Air Force counterparts, and Headquarters Air Force Office of Special Investigations (AFOSI), Death Investigations Section personnel. Records are created and revised by mental health and AFOSI personnel in the performance of their duties.

Mental health personnel include military and/or civilian staff assigned to the mental health department of the Air Force medical treatment facility where the medical and/or mental health records are maintained.

Routine uses of records maintained in the system, including categories of users and the purposes of such uses:

In addition to those disclosures generally permitted under 5 U.S.C. 552a(b) of the Privacy Act, these records, or information contained therein, may specifically be disclosed outside the DoD as a routine use pursuant to 5 U.S.C. 552a(b)(3) as follows:

Statistical summary data with no identifiers may be provided to federal, state and local governments for public health surveillance and research.

The DoD ‘Blanket Routine Uses’ published at the beginning of the Air Force’s compilation of record system notices apply to this system, except as stipulated in ‘Note’ below.

Note: Records of identity, diagnosis, prognosis or treatment of any client/patient, irrespective of whether or when he/she ceases to be a client/patient, maintained in connection with the performance of any alcohol/drug abuse treatment function conducted, requested, or directly or indirectly assisted by any department or agency of the United States, shall, except as provided herein, be confidential and be disclosed only for the purposes and under the circumstances expressly authorized in 42 U.S.C. 290dd-2. This statute takes precedence over the Privacy Act of 1974 in regard to accessibility of such records except to the individual to whom the record pertains. The DoD ‘Blanket Routine Uses’ do not apply to these types of records.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Maintained on computer and computer output products.

Retrievability:

Authorized users retrieve records by case identification number which is Social Security Number, plus year, month, day of event date.

Safeguards:

Records are accessed by custodians of the record system and by person(s) responsible for servicing the record system in performance of their official duties and who are properly authorized. When under direct physical control by authorized individuals, records will be electronically stored in computer storage devices protected by computer system software. Computer terminals are located in supervised areas with terminal access controlled by password or other user code systems.

Retention and disposal:

Disposition pending (until NARA disposition is approved, treat as permanent).

System manager(s) and address:

Chief, Force Health Protection and Surveillance Branch, Air Force Institute for Environment, Safety and Occupational Health Risk Analysis, 2513 Kennedy Circle, Brooks City-Base, TX 78235-5123.

Notification procedure:

Individuals seeking to determine whether this system of records contains information on themselves should address written inquiries to Chief, Force Health Protection and Surveillance Branch, Air Force Institute for Environment, Safety and Occupational Health Risk Analysis, 2513 Kennedy Circle, Brooks City-Base, TX 78235-5123.

Written requests should contain the full name, Social Security Number, and signature of the requester.

Record access procedures:

Individuals seeking to access records about themselves contained in this system should address written requests to the Chief, Force Health Protection and Surveillance Branch, Air Force Institute for Environment, Safety and Occupational Health Risk Analysis, 2513 Kennedy Circle, Brooks City-Base, TX 78235-5123.

Written requests should contain the full name, Social Security Number, and signature of the requester.

Contesting record procedures:

The Air Force rules for accessing records, and for contesting contents and appealing initial agency determinations are published in Air Force Instruction 37-132; 32 CFR part 806b; or may be obtained from the system manager.

Record source categories:

Records in this system are obtained from DOD and Air Force employees and compiled using information from personnel, medical, and casualty records, investigative reports, and environmental sampling data.

Exemptions claimed for the system:

None.

F044 AF TRANSCOM A

System name:

Joint Medical Evacuation System (TRAC²ES) (February 26, 2002, 67 FR 8789).

Changes

* * * * *

Routine uses of records maintained in the system, including categories of users and the purposes of such uses:

Add to end of entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

F044 AF TRANSCOM A

System name:

Joint Medical Evacuation System (TRAC²ES).

System location:

United States Transportation Command, Global Patient Movement Requirements Center, Building 505, Rimkus Drive, Room 100, Scott AFB, IL 62225-5049, and Department of Defense medical treatment facilities, evacuation units and medical regulating offices.

Categories of individuals covered by the system:

All active duty, Air National Guard, Army National Guard, Reserve components of the Air Force, Army, Marine Corps, Coast Guard, Public Health Services or National Oceanic and Atmospheric Administration who have been called to Federal Service, and retired personnel of all seven uniformed services as well as their family members, employees of any agency of the U.S. Government including non-appropriated fund and Army and Air Force Exchange Service employees, Air Reserve technicians performing duties as civil servants, and family members (dependents) who reside overseas and whose civil service personnel sponsor is stationed overseas requiring transfer to another medical treatment at the request of U.S. Government medical treatment facilities through Patient Movement Requirements Centers.

Categories of records in the system:

TRAC²ES contains information reported by the transferring medical facility which includes, but is not limited to, patient identity, service affiliation and grade or status, sex, medical diagnosis, medical condition, special procedures or requirements needed, medical specialties required, administrative considerations, personal considerations, home address of patient and/or duty station, and other information having an impact on the transfer.

Authority for maintenance of the system:

10 U.S.C. 8013, Secretary of the Air Force; 10 U.S.C. Chapter 55, Medical and Dental Care; 10 U.S.C. 2641, Transportation of Certain Veterans on DoD Aeromedical Evacuation Aircraft; DoD Directive 5154.6, Armed Services Medical Regulating; DoD Instruction 6000.11, Patient Movement; and E.O. 9397 (SSN).

Purpose:

Information collected is used to determine the appropriate medical treatment facility to which the reported patient will be transferred; to notify the reporting U.S. Government medical treatment facility of the transfer destination; to notify medical treatment facilities of the transfer; to notify evacuation units and medical regulating offices; to evaluate the effectiveness of reported information; to establish the specific needs of the reported patient; for statistical purposes; and when required by law and official purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To civilian hospitals for medical reference to ensure proper care is provided.

The DoD ‘Blanket Routine Uses’ set forth at the beginning of the Air Force's compilation of systems of records notices also apply to this system.

Note: Records of identity, diagnosis, prognosis or treatment of any client/patient, irrespective of whether or when he/she ceases to be a client/patient, maintained in connection with the performance of any alcohol/drug abuse treatment function conducted, requested, or directly or indirectly assisted by any department or agency of the United States, shall, except as provided herein, be confidential and be disclosed only for the purposes and under the circumstances expressly authorized in 42 U.S.C. 290dd-2. These statutes take precedence over the Privacy Act of 1974 in regard to accessibility of such records except to the individual to whom the record pertains. The DoD ‘Blanket Routine Uses’ do not apply to these types of records.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders and electronic back-up tape storage media.

Retrievability:

By individual's name and Social Security Number.

Safeguards:

Records are accessed by custodians of the record system and by person(s) responsible for servicing the record system in performance of their official duties and who are properly authorized. When under direct physical control by authorized individuals, records will be electronically stored in computer storage devices protected by computer system software, or in locked file cabinets, locked desk drawers, or locked offices. Computer terminals are located in supervised areas with terminal access controlled by password or other user code systems.

Retention and disposal:

Medical records of active duty U.S. military members are maintained at the medical unit at which the person receives treatment. On separation or retirement, records are forwarded to National Personnel Records Center (NPRC), St. Louis MO or other designated depository, such as Commandant, U.S. Coast Guard for that agency's personnel, to appropriate Department of Veterans Affairs Regional Office if a VA claim has been filed. Records of non-active duty personnel may be hand carried or mailed to the next military medical facility at which treatment will be received or the records are retained at the treating facility for a minimum of 1 year after date of last treatment then retire to NPRC or other designated depository. At NPRC records for military personnel are retained for 50 years after date of last document, for all others 25 years.

System manager(s) and address:

System Administrator, United States Transportation Command, Global Patient Movement Requirements Center, Building 505, Rimkus Drive, Room 100, Scott AFB, IL 62225-5049.

Notification procedures:

Individuals seeking to determine whether information about them is contained in this system should address written inquiries to Chief, Patient Administration of the Military Treatment Facility where treatment was provided.

Individuals requesting information should provide full name, rank or status and parent service, approximate date of transfer, medical treatment facility from which transferred, and current address and telephone number.

Record access procedures:

Individuals requesting information should provide full name, rank or status and parent service, approximate date of transfer, medical treatment facility from which transferred, and current address and telephone number. Forward request to Chief, Patient Administration of the Military Treatment Facility where treatment was provided.

Contesting record procedures:

The Air Force rules for accessing records, and for contesting contents and appealing initial agency determinations are published in Air Force Instruction 37-132; 32 CFR part 806b; or may be obtained from the system manager.

Record source categories:

Transferring and receiving treatment facilities, medical regulating offices, evacuation offices, agencies and commands relevant to the patient transfer, and from the subject individual.

Exemptions claimed for the system:

None.

[FR Doc. 03-15044 Filed 6-13-03; 8:45 am]

BILLING CODE 5001-08-P